DEPARTMENT OF COMMERCE

Census Bureau

Submission for OMB Review; Comment Request

The Department of Commerce will submit to the Office of Management and Budget (OMB) for clearance the following proposal for collection of information under the provisions of the Paperwork Reduction Act: The Fertility Supplement to the Current Population Survey. This survey, conducted every two years in June, is a supplemental survey asked of female household members ages 15 to 50. It will be collected in June 2020, to obtain the number of children ever given birth to (if any), the year the first child was born, and the marital or cohabitation status at the time the first child was born.

Agency: U.S. Census Bureau.

Title: Current Population Survey, Fertility Supplement.

OMB Control Number: 0607-0610.

Form Number(s): There are no forms. We conduct all interviews on computers.

Type of Request: Reinstatement, without change, of a previously approved collection for which approval has expired.

Number of Respondents: 30,000.

Average Hours per Response: Approximately 1 minute per response.

Burden Hours: 500.

Needs and Uses: This survey provides information used mainly by government and private analysts to project future population growth, to analyze child spacing, and to aid policymakers and private analysts in their decisions affected by changes in family size and composition. Past studies have discovered noticeable changes in the patterns of fertility rates and the timing of the first birth. Potential needs for government assistance, such as aid to families with dependent children, child care, and maternal health care for single parent households, can be estimated using CPS characteristics matched with fertility data.

Affected Public: Individuals or Households.

Frequency: Biennially.

Respondent's Obligation: Voluntary.

Legal Authority: Title 13, United States Code, Sections 8(b), 141, and 182; and Title 29, United States Code, Sections 1-9 authorize the Census Bureau to collect this information.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Department PRA Clearance Officer, Office of the Chief Information Officer, Commerce Department.

[FR Doc. 2020-00310 Filed 1-10-20; 8:45 am]

BILLING CODE 3510-07-P